DEPARTMENT OF THE INTERIOR

National Park Service

Notice of a National Park Service Concession Workshop, Subject: “How To Apply for a Concession Authorization”

AGENCY: National Park Service, Interior.

ACTION: Notice of a National Park Service Concession Workshop, subject: “How to Apply for a Concession Authorization.”

SUMMARY: Notice is hereby given that the National Park Service (NPS) will be conducting a 1-day workshop on the NPS concession contracting process. This workshop is being held in conjunction with the National Parks Conservation Association's (NPCA) “Mosaic in Motion 2002” which is being held in Atlanta, Georgia on July 7-10, 2002, at Stone Mountain at the Evergreen Conference Center.

SUPPLEMENTARY INFORMATION: All persons interested in doing business in a national park and obtaining information on how to respond to a concession prospectus are invited to attend. The workshop's focus will be on concession contracts. Discussions will include guidelines describing how to submit responsive proposals in response to concession prospectuses and how the NPS evaluates the proposals. The workshop is scheduled to begin at 8 a.m. on July 10, 2002. The cost for the workshop is $125.00. For further information concerning this workshop and for registration details and information, contact Iantha Gantt-Wright at the National Parks Conservation Association on 202/454-3381 or visit the NPCA web site at www.npca.org.

FOR FURTHER INFORMATION CONTACT: Sherrill Watson, Concession Program, National Park Service, Washington, DC 20240, telephone 202-565-1210.

Dated: June 4, 2002.
Richard G. Ring,
Associate Director, Park Operations and Education.

[FR Doc. 02-16340 Filed 6-27-02; 8:45 am]

BILLING CODE 4310-70-M